FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission,Washington, DC 20573.

Non-Vessel Operating Common Carrier Ocean Transportation Intermediary Applicants

Cargois Inc., 2700 Coyle Ave., Elk Grove Village, IL 60007. Officer: Souck-Sin Lee, Treasurer (Qualifying Individual).

Forward System Logistics Inc., 145-54 156th Street, Jamaica, NY 11434. Officers: Po Shan Wong, Vice President (Qualifying Individual), Carrie Law, President.

Manila Cargo, 675 Hegenberger Road, Ste. 251, Oakland, CA 94623. Gerardo R. DeGuzman, Sole Proprietor.

Scarbrough International Express Lines, Ltd. dba Six Lines, Ltd. dba Six Pack, 10841 Ambassador Drive, Kansas City, MO 64153. Officers: Roger L. Scarbrough, President (Qualifying Individual), Cynthia J. Scarbrough, Secretary.

Mak International Shipping, LLC, 1500 North Main Street, Crown Point, IN 46307. Officers: Mitro Kutanovski, Owner (Qualifying Individual).

Hongwu Logistics (USA) Inc., 211 N. Huntington Ave., Ste. 18, Monterey Park, CA 91754. Officer: Guanying Liu, President (Qualifying Individual).

Non-Vessel Operating Common Carrier and Ocean Freight Forwarder Transportation Intermediary Applicant

TRB Group, Inc. dba Unishippers dba TRB Group Ocean Lines, 2012 E. Phelps, Suite A, Springfield, MO 65802. Officer: Terrell R. Barkett, President (Qualifying Individual).

Global Trade Logistics, LLC, 1122 S. 900 E., Provo, UT 84606. Officers: Justin Boudreau, Member/Manager (Qualifying Individual), Darrell Jakins, Member.

Fox Global Logistics Corporation, 5692 Conifer Drive, La Palma, CA 90823. Officers: Wen Sho Wang, Secretary (Qualifying Individual), Kenny Lee, President.

Chronos International Cargo Corp., 6030 NW 99th Ave., Ste. 407, Doral, FL 33178. Officer: Paula L. Almeida, President (Qualifying Individual).

Sealaska Global Logistics, LLC, 13810 SE Eastgate Way, Bellevue, WA 98005. Officers: Edward M. Davis, General Manager (Qualifying Individual), Jeffrey W. Zammit, President.

Intergroup Consolidators, Inc., 8045 NW 68th Street, Miami, FL 33166. Officers: Aymee C. Garabito, Vice President (Qualifying Individual), Antonio J. Jaquez, President.

PNGL (USA) Inc., 17121 S. Central Ave., Unit 2K, Pacifica Industrial Park, Carson, CA 90746. Officer: Werner Staub, President (Qualifying Individual).

Mohawk Customs & Shipping (Rochester) LLC dba Mohawk Global Logistics (ROC), 52 Marway Circle, Ste. 1, Rochester, NY 14624. Officer: Michael Bronowich, Vice President (Qualifying Individual).

Motherlines, Inc., 11 Sunrise Plaza, Ste. 305, Valley Stream, NY 11580. Officer: Jin-Hwang Lee, Secretary (Qualifying Individual).

Express Shipping Service International, LTD. dba Express International, 2250 B 59 Street, Brooklyn, NY 11204. Officers: Michael Aronov, President (Qualifying Individual), Michael Gorodetsky, Vice President.

WTA USA Inc., 1510 Midway Court, Ste. E203, Elk Grove Village, IL 60007. Officers: Marcela Lundgren, Vice President (Qualifying Individual), Gerard W. Lawler, President.

SDS Global Logistics, Inc., 52-09 31st Place, Long Island City, NY 11101. Officer: Stephen P. Nelson, Vice President (Qualifying Individual).

Trident Logistics Inc., 3 University Plaza, Ste. 405, Hackensack, NJ 07601. Officer: Yongsuk A. Lim, President (Qualifying Individual).

J & V International Shipping Corp., 806 Arcadia Ave., Ste. 4, Arcadia, CA 91007. Officer: Vivian Wei Liu, President (Qualifying Individual).

Earthlink Cargo and Customs Service, 605 West 104th Place, Los Angeles, CA 90044. Officer: Jon Soh, CEO (Qualifying Individual).

GMS Logistics, Inc., 20819 Currier Road, 2nd Floor, Ste. 400, City of Industry, CA 91789. Officers: Ying Liu, CEO (Qualifying Individual), Hungyu Tsuei, Secretary.

M.E. Dey & Co., Inc., 5007 South Howell Ave., Ste. 300, Milwaukee, WI 53207. Officer: Randall Kupfer, Vice President (Qualifying Individual).

SDV (USA) Inc., 150-10 132nd Ave., Jamaica, NY 11430. Officer: Philippe A. Naudin, President (Qualifying Individual).

Ocean Freight Forwarder—Ocean Transportation Intermediary Applicants

MWT Logistics, LLC, 18861 SW Martinazzi Ave., Ste. 203A, Tualatin, OR 97062. Officers: Sheri L. Parshall, Vice President (Qualifying Individual), Troy M. Johnson, President.

APM Global Logistics USA Inc., Giralda Farms, Madison Ave., P.O. Box 880, Madison, NJ 07940-0880. Officer: Jan K. Anderson, Vice President (Qualifying Individual).

Maersk Logistics USA Inc., Giralda Farms, Madison Ave., P.O. Box 880, Madison, NJ 07940-0880. Officer: Nick Fafoutis, Sen. Dir. Area Sales Manager (Qualifying Individual).

Eastern Freight Forwarders, Inc., 100 West Middle Road, Riviera Beach, FL 33404. Officer: Jack M. Bahl, President (Qualifying Individual).

Dated: May 23, 2008.
Karen V. Gregory,
Assistant Secretary.

[FR Doc. E8-12017 Filed 5-28-08; 8:45 am]

BILLING CODE 6730-01-P